DEPARTMENT OF AGRICULTURE

Forest Service

Northeast Oregon Forests Resource Advisory Committee (RAC)

AGENCY: Forest Service, USDA.

ACTION: Notice of meetings.

SUMMARY: Pursuant to the authorities in the Federal Advisory Committees Act (Pub. L. 92-463), the Northeast Oregon Forests Resource Advisory Committee (RAC) will meet on September 17 and 18, 2007. The purpose is to meet as a Committee to review proposed projects for fiscal year 2008.

DATES: The meeting will be held as follows: September 17, 8 a.m. to 5 p.m. in John Day, Oregon. September 18, 8 a.m. to noon.

ADDRESSES: The September, 2007 meeting will be held at the Malheur National Forest Supervisor's Office, 431 Patterson Bridge Rd., John Day, Oregon 97845.

FOR FURTHER INFORMATION CONTACT: Jennifer Harris, Designated Federal Official, USDA, Malheur National Forest, P.O. Box 909, John Day, Oregon 97845. Phone: (541) 575-3008.

SUPPLEMENTARY INFORMATION: A public comment period will be provided at 12:30 p.m. on September 17 and individuals will have the opportunity to address the committee at that time. The September 18 meeting will only occur if needed to finish the business of the committee.

Dated: August 27, 2007.
Jennifer L. Harris,
Designated Federal Official.

[FR Doc. E7-17303 Filed 8-30-07; 8:45 am]

BILLING CODE 3410-DK-P